DEPARTMENT OF THE INTERIOR

Bureau of Land Management

[LLCONO3000.L1610000.DSO000]

Notice of Intent To Amend the Grand Junction Resource Management Plan, Prepare an Environmental Assessment, and Notice of Realty Action, Colorado

AGENCY: Bureau of Land Management, Interior.

ACTION: Notice of Intent and Notice of Realty Action.

SUMMARY: The Grand Junction, Colorado, Regional Airport Authority has requested the Bureau of Land Management (BLM) Grand Junction Field Office (GJFO) to consider the transfer of title to approximately 720 acres of public land for airport improvements, including relocation and construction of the main runway for the Grand Junction Regional Airport. Public Land Order No. 7027 (59 FR 3000 January 20, 1994) withdrew these lands from mining claim location in anticipation of a need for future airport expansion. The BLM's consideration of the Grand Junction Regional Airport Authority's (Airport Authority) request initiates a BLM Notice of Intent to initiate a public scoping process to amend the BLM GJFO 1987 Resource Management Plan (RMP) and prepare an Environmental Analysis (EA). The request also initiates a Notice of Realty Action (NORA) to assist the BLM in determining whether granting the requested title conveyance is consistent with the needs of the Department of the Interior. This notice initiates the public scoping process and concurrent opportunity for submission of public comments for the EA, RMP Amendment, and NORA.

DATES: Comments on this project, the NORA, or the proposed transfer of title to the Airport Authority may be submitted in writing until February 28, 2011. The date(s) and location(s) of scoping meetings will be announced at least 15 days in advance through local media, newspapers and the BLM Web site at: http://www.blm.gov/co/st/en/fo/gjfo.html. In order to be included in the EA, all comments must be received prior to the close of the scoping period or 45 days after the last public meeting, whichever is later.

ADDRESSES: Written comments should be sent to the Grand Junction Field Office, Bureau of Land Management, 2815 H. Road, Grand Junction, Colorado 81506, or via fax at (970) 244-3083. E-mail comments may be sent to GJFO_mail@blm.gov. Comments, including names and addresses of respondents, will be available for public review at the BLM GJFO, during regular business hours 7:30 a.m. through 4:30 p.m., Monday-Friday, except holidays.

Before including your address, phone number, e-mail address, or other personal identifying information in your comment, you should be aware that your entire comment-including your personal identifying information-may be made publicly available at any time. While you can ask us in your comment to withhold your personal identifying information from public review, we cannot guarantee that we will be able to do so.

FOR FURTHER INFORMATION CONTACT: For further information and/or to have your name added to our mailing list contact Robin Lacy, Project Manager, telephone (970) 244-3028. Project documents may be reviewed on the BLM GJFO Web site at http://www.blm.gov/co/st/en/fo/gjfo.

SUPPLEMENTARY INFORMATION: The purpose of the public scoping process is to identify those issues that should be considered in the EA and to initiate public participation in the planning process. BLM and Airport Authority personnel will be present at scoping meetings to explain the proposed action and other requirements for preparing the EA. Interested parties can request notification of any encumbrances or other claims relating to the land. Customary Federal Aviation Administration (FAA) conditions, in draft, that are proposed to be included in a land patent from the United States to the Airport Authority will also be available for review. The public lands requested for title transfer are within the jurisdiction of the BLM GJFO adjacent to the Grand Junction Regional Airport in the North Desert and are described as follows:

Ute Principal Meridian

T. 1 N., R. 1 W.,

Sec. 23, S½NE¼;

Sec. 24, S½NE¼, N½SE¼, and SE¼SE¼;

T. 1 N., R. 1 E.,

Sec. 19, lots 3 and 4, and E½SW¼;

Sec. 29, SW¼NW¼;

Sec. 30, lot 1, NE¼, and NE¼NW¼.

The areas described contain approximately 720 acres in Mesa County.

These are public lands administered by the BLM GJFO and do not include any private, State, tribal trust or Federal lands not administered by the BLM, the lands proposed for the title transfer to the Airport Authority are currently withdrawn from the United States mining laws by Public Land Order No. 7027 (59 FR 3000 (1994)), and are not intended for further segregation.

The EA will fulfill the needs and obligations set forth by the National Environmental Policy Act and associated Council of Environmental Quality Regulations (40 CFR 1500). The EA will also fulfill requirements of the Federal Land Policy and Management Act of 1976 (FLPMA), 43 U.S.C. 1701, Section 516 of the Airport and Airway Improvement Act of 1982 (49 U.S.C. 2215), Airport Grant regulations at 43 CFR 2640, applicable planning regulations at 43 CFR 1600, and BLM management policies.

The purpose of the proposed land title transfer from the United States to the Airport Authority is to fulfill the BLM's intent to make such lands available to the Airport Authority for a beneficial public use as described in the 1991 Memorandum of Understanding between the BLM and the Airport Authority. As authorized through the FLPMA, these lands will also be considered for title transfer to the Airport Authority in an amendment to the Grand Junction RMP. The BLM will determine whether or not to transfer title to the lands based on the EA, and the assessed environmental impacts of transferring title to the lands.

The purpose of the runway relocation is to comply with the FAA design standards by correcting deficiencies related to runway and taxiway gradients and to eliminate intersecting runways at the airport. The need for the proposed runway relocation is to increase safety at the Grand Junction Regional Airport, which is one of the few commercial service airports in the State of Colorado that still has a geometric runway layout consisting of an intersecting crosswind runway. The runway intersection increases the potential for runway incursions, which are defined by the FAA as “any occurrence at an aerodrome involving the incorrect presence of an aircraft, vehicle or person on the protected area of a surface designated for the landing and takeoff of aircraft.” Increasing runway safety has been made a high priority in recent years and the FAA has published guidance on improving runway safety through airfield configuration. Also, several design components of the runway at Grand Junction Regional Airport do not meet the FAA design standards, including the following:

Runway 11/29 Transverse Gradient. Portions of the runway exceed the maximum recommended design standard of 1.5 percent;

Runway 11/29 Longitudinal Gradient. A portion of the runway near the approach end of Runway 29 exceeds the maximum recommended design standard of 0.8 percent;

Runway 11/29 Connecting Taxiway Gradient. A number of the connecting taxiways between Runway 11/29 and parallel Taxiway “A” exceed the maximum recommended design standard of 1.5 percent; and

Runway 11/29 and Runway 4/22 Runway Visibility Zone (RVZ). Numerous structures obstruct line of sight between runway mid-points.

The BLM seeks resource information and data for other public land values [i.e., air quality, cultural and historic resources, fire and fuels, fisheries, forestry, lands and realty, non-energy minerals and geology, oil and gas (including coalbed methane), paleontology, rangeland management, recreation, soil, water, and wildlife] in the BLM GJFO planning area. The purpose of this request is to assure that the planning effort has sufficient information to consider a reasonable range of resource uses, management options, and alternatives for the public lands involved.

Proprietary data marked as confidential may be submitted in response to this call for coal, oil and gas, and other resource information. Please submit all proprietary information submissions to the address listed above. The BLM will treat submissions marked as “Confidential” in accordance with the laws and regulations governing the confidentiality of such information.

The BLM GJFO will work collaboratively with interested parties to identify the management actions and decisions that are best suited to local, regional, and national needs. Potential issues that have been identified to date include, but are not limited to the following general categories: Wildlife (including birds); vegetation (including weeds and invasive plant species); threatened, endangered, and sensitive species; public access; visual concerns; cultural resources; tribal concerns; rangeland resources; geology and soils; hydrology; recreation resources; hazardous materials; air quality; noise; and socio-economics. The BLM has established a 45-day scoping period during which affected tribes, landowners, concerned citizens, special interest groups, local governments, and any other interested parties are invited to comment on the scope of the EA. Scoping will help the BLM identify the full range of issues that should be addressed in the EA.

Authority: Airport and Airway Improvement Act of September 3, 1982 (49 U.S.C. 4761, 49 U.S.C. 47101 et seq., 3 CFR 2640 et seq.).

Helen M. Hankins,
State Director.

[FR Doc. 2011-556 Filed 1-12-11; 8:45 am]

BILLING CODE 4310-JB-P